DEPARTMENT OF ENERGY

Federal Energy Regulatory Commission

Combined Notice of Filings #1

Take notice that the Commission received the following electric rate filings:

Docket Numbers: ER22-233-004.

Applicants: Portland General Electric Company.

Description: Compliance filing: PGE TRC Post Settlement Compliance Filing to be effective 1/1/2022.

Filed Date: 4/20/23.

Accession Number: 20230420-5134.

Comment Date: 5 p.m. ET 5/11/23.

Docket Numbers: ER23-1660-000.

Applicants: Cleco Power LLC.

Description: Request for Limited Waiver, et al. of Cleco Power LLC.

Filed Date: 4/18/23.

Accession Number: 20230418-5244.

Comment Date: 5 p.m. ET 5/9/23.

Docket Numbers: ER23-1664-000.

Applicants: Midcontinent Independent System Operator, Inc.

Description: § 205(d) Rate Filing: 2023-04-20_Attachment FF-3 FF-4 MJMEUC & Jonesboro Integration to be effective 6/20/2023.

Filed Date: 4/20/23.

Accession Number: 20230420-5023.

Comment Date: 5 p.m. ET 5/11/23.

Docket Numbers: ER23-1665-000.

Applicants: NSTAR Electric Company.

Description: § 205(d) Rate Filing: First Amendment to Vineyard Wind LLC Design and Engineering Agreement to be effective 4/21/2023.

Filed Date: 4/20/23.

Accession Number: 20230420-5054.

Comment Date: 5 p.m. ET 5/11/23.

Docket Numbers: ER23-1666-000.

Applicants: Indiana Crossroads Wind Farm LLC.

Description: § 205(d) Rate Filing: Shared Facilities Agreement Amendment Filing to be effective 4/20/2023.

Filed Date: 4/20/23.

Accession Number: 20230420-5085.

Comment Date: 5 p.m. ET 5/11/23.

Docket Numbers: ER23-1667-000.

Applicants: ITC Midwest LLC.

Description: § 205(d) Rate Filing: Joint Use Pole Agreement with CIPCO (ITC Midwest, Rate Schedule No. 225) to be effective 6/20/2023.

Filed Date: 4/20/23.

Accession Number: 20230420-5099.

Comment Date: 5 p.m. ET 5/11/23.

Docket Numbers: ER23-1668-000.

Applicants: Estrella Solar, LLC.

Description: Baseline eTariff Filing: Estrella Solar, LLC MBR Tariff to be effective 5/1/2023.

Filed Date: 4/20/23.

Accession Number: 20230420-5111.

Comment Date: 5 p.m. ET 5/11/23.

Docket Numbers: ER23-1669-000.

Applicants: Raceway Solar 1, LLC.

Description: Baseline eTariff Filing: Raceway Solar 1, LLC MBR Tariff to be effective 5/1/2023.

Filed Date: 4/20/23.

Accession Number: 20230420-5114.

Comment Date: 5 p.m. ET 5/11/23.

Docket Numbers: ER23-1670-000.

Applicants: Alabama Power Company, Georgia Power Company, Mississippi Power Company.

Description: § 205(d) Rate Filing: Alabama Power Company submits tariff filing per 35.13(a)(2)(iii: Tyre Bridge Solar Amended and Restated LGIA Filing to be effective 4/7/2023.

Filed Date: 4/20/23.

Accession Number: 20230420-5122.

Comment Date: 5 p.m. ET 5/11/23.

Docket Numbers: ER23-1671-000.

Applicants: Versant Power.

Description: § 205(d) Rate Filing: Corrected Exhibit 1b (Footnote)—Attachment J, Formula Rates to be effective 6/1/2023.

Filed Date: 4/20/23.

Accession Number: 20230420-5138.

Comment Date: 5 p.m. ET 5/11/23.

Docket Numbers: ER23-1672-000.

Applicants: Midcontinent Independent System Operator, Inc., Ameren Transmission Company of Illinois.

Description: § 205(d) Rate Filing: Midcontinent Independent System Operator, Inc. submits tariff filing per 35.13(a)(2)(iii: 2023-04-20_ATXI Single-Issue Depreciation Rates to be effective 7/1/2023.

Filed Date: 4/20/23.

Accession Number: 20230420-5158.

Comment Date: 5 p.m. ET 5/11/23.

Docket Numbers: ER23-1673-000.

Applicants: PJM Interconnection, L.L.C.

Description: § 205(d) Rate Filing: Original ISA, Service Agreement No. 6885; Queue No. AE2-041/AF1-018 to be effective 4/11/2023.

Filed Date: 4/20/23.

Accession Number: 20230420-5159.

Comment Date: 5 p.m. ET 5/11/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 20, 2023.
Debbie-Anne A. Reese,
Deputy Secretary.

[FR Doc. 2023-08788 Filed 4-25-23; 8:45 am]

BILLING CODE 6717-01-P